DEPARTMENT OF THE INTERIOR

National Park Service

[NPS-WASO-PCE-UPARR-13996; PPWOSLAD00, PUA00UA08.GA0000]

Information Collection Request Sent to the Office of Management and Budget (OMB) for Approval; Urban Park and Recreation Recovery Program Grants

AGENCY: National Park Service, Interior.

ACTION: Notice; request for comments.

SUMMARY: We (National Park Service) have sent an Information Collection Request (ICR) to OMB for review and approval. We summarize the ICR below and describe the nature of the collection and the estimated burden and cost. This information collection is scheduled to expire on October 31, 2013. We may not conduct or sponsor and a person is not required to respond to a collection of information unless it displays a currently valid OMB control number. However, under OMB regulations, we may continue to conduct or sponsor this information collection while it is pending at OMB.

DATES: You must submit comments on or before October 10, 2013.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 1849 C Street NW. (2601), Washington, DC 20240 (mail); or madonna_baucum@nps.gov (email). Please include “1024-0048” in the subject line of your comments.

FOR FURTHER INFORMATION CONTACT: To request additional information about this ICR, contact Elisabeth Fondriest at 202-354-6916 (telephone) or elisabeth_fondriest@nps.gov (email). You may review the ICR online at http://www.reginfo.gov. Follow the instructions to review Department of the Interior collections under review by OMB.

SUPPLEMENTARY INFORMATION:

OMB Control Number: 1024-0048.

Title: Urban Park and Recreation Recovery Program Grants, 36 CFR part 72.

Service Form Number(s): 10-911, 10-912, and 10-915.

Type of Request: Revision of a currently approved collection.

Description of Respondents: Cities and urban communities.

Respondent's Obligation: Required to obtain or retain a benefit.

Frequency of Collection: On occasion.

Activity | Number of respondents | Number of annual responses | Completion time per response (hours) | Total annual burden hours *
Recovery Action Program | 1 | 1 | 80 | 80
Recovery Action Program Grant Applications | 1 | 1 | 3.5 | 4
Preapplication for Rehabilitation or Innovation Grants | 1 | 1 | 10 | 10
Final Application for Rehabilitation or Innovation Grants | 1 | 1 | 10.5 | 11
Grant Amendments | 1 | 1 | 3.5 | 4
Performance Reports | 1 | 1 | 1 | 1
Conversion of Use Request | 1 | 1 | 70 | 70
Recordkeeping | 1 | 1 | 2 | 2
Totals | 8 | 8 |  | 182
* rounded

Estimated Annual Nonhour Burden Cost: None.

Abstract: The Urban Park and Recreation Recovery (UPARR) Act (16 U.S.C. 2501 et seq.) was passed as Title X of the National Parks and Recreation Act of 1978. The UPARR Act authorized the Secretary of the Interior to establish a grant program to help economically distressed urban areas improve recreation opportunities for their residents. We administer the UPARR program in accordance with regulations at 36 CFR part 72, which: (1) Explain the policies to be followed for awarding grants, (2) List the requirements and criteria to be met for each type of grant and discretionary eligibility, (3) Discuss fundable uses and limitations, (4) Explain how proposals will be selected and funded, and (5) Describe the application process and administrative procedures for awarding grants. The three types of grants available under the program are:

• Rehabilitation—renovate or redesign existing close-to-home recreation facilities.

• Innovation—specific activities that either increase recreation programs or improve the efficiency of the local government to operate existing programs.

• Planning—development of a Recovery Action Program plan.

The information collection requirements associated with the UPARR Program are currently approved under three OMB control numbers, all of which expire on October 31, 2013. During our review for this renewal, we identified some additional requirements that need OMB approval. See our May 2, 2013, Federal Register notice (78 FR 25760) for specifics on the information we collect.

Congress has not appropriated funds for new UPARR grants since FY 2002. We are not currently accepting applications, and there are no open grants for which performance reports must be submitted. However, we still receive requests for conversion of properties improved or developed with UPARR grants through FY 2002 to other than public recreation uses. In anticipation of future funding, we are requesting OMB approval for the information collection requirements for UPARR grants. If OMB approves this revision, we will discontinue OMB Control Numbers 1024-0028 and 1024-0089.

Comments: On May 2, 2013, we published in the Federal Register (78 FR 25760) a notice of our intent to request that OMB approve this information collection. In that notice, we solicited comments for 60 days, ending on July 1, 2013. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 4, 2013.
Madonna L. Baucum,
Information Collection Clearance Officer, National Park Service.

[FR Doc. 2013-21981 Filed 9-9-13; 8:45 am]

BILLING CODE 4310-EH-P